DEPARTMENT OF ENERGY

Federal Energy Regulatory Commission

Combined Notice of Filings #2

Take notice that the Commission received the following electric rate filings:

Docket Numbers: ER11-3949-005.

Applicants: New York Independent System Operator, Inc.

Description: Compliance Filing: Order Nos. 741 and 741-A, Credit Reforms—Tariffs to be effective 7/1/2012.

Filed Date: 4/30/12.

Accession Number: 20120430-5336.

Comments Due: 5 p.m. ET 5/14/12.

Docket Numbers: ER11-3951-001.

Applicants: New York Independent System Operator, Inc.

Description: New York Independent System Operator, Inc. submits tariff filing per 35: Compliance Filing: Order Nos. 741 and 741-A, ISO-TO and ISO-NYSRC Agreements to be effective 7/1/2012.

Filed Date: 4/30/12.

Accession Number: 20120430-5349.

Comments Due: 5 p.m. ET 5/14/12.

Docket Numbers: ER12-309-002.

Applicants: Midwest Independent Transmission System Operator, Inc.

Description: Midwest Independent Transmission System Operator, Inc. submits tariff filing per 35: 04-30-12 Attachment X_Queue Reform Compliance to be effective 1/1/2012.

Filed Date: 4/30/12.

Accession Number: 20120430-5438.

Comments Due: 5 p.m. ET 5/21/12.

Docket Numbers: ER12-923-001.

Applicants: Midwest Independent Transmission System Operator, Inc.

Description: Midwest Independent Transmission System Operator, Inc. submits tariff filing per 35: 04-30-12 LAC Compliance to be effective 4/1/2012.

Filed Date: 4/30/12.

Accession Number: 20120430-5340.

Comments Due: 5 p.m. ET 5/21/12.

Docket Numbers: ER12-1436-002.

Applicants: Eagle Point Power Generation LLC.

Description: Eagle Point Power Generation LLC submits tariff filing per 35.17(b): Category Seller Revision to be effective 4/2/2011.

Filed Date: 4/30/12.

Accession Number: 20120430-5424.

Comments Due: 5 p.m. ET 5/21/12.

Docket Numbers: ER12-1642-000.

Applicants: Pacific Gas and Electric Company.

Description: CCSF IA—37th Quarterly Filing of Facilities Agreements to be effective 3/31/2012.

Filed Date: 4/30/12.

Accession Number: 20120430-5000.

Comments Due: 5 p.m. ET 5/21/12.

Docket Numbers: ER12-1643-000.

Applicants: ISO New England Inc., New England Power Pool Participants Committee.

Description: Order 755 Regulation Market Changes to be effective 12/31/9998.

Filed Date: 4/30/12.

Accession Number: 20120430-5161.

Comments Due: 5 p.m. ET 5/21/12.

Docket Numbers: ER12-1644-000.

Applicants: PacifiCorp.

Description: PAC Energy NITSA Rev 15 to be effective 4/1/2012.

Filed Date: 4/30/12.

Accession Number: 20120430-5252.

Comments Due: 5 p.m. ET 5/21/12.

Docket Numbers: ER12-1645-000.

Applicants: ITC Midwest LLC.

Description: ITC Midwest LLC submits tariff filing per 35.13(a)(2)(iii: ITC Midwest-Muscatine Notice of Succession Filing to be effective 7/1/2012.

Filed Date: 4/30/12.

Accession Number: 20120430-5292.

Comments Due: 5 p.m. ET 5/21/12.

Docket Numbers: ER12-1646-000.

Applicants: Florida Power Corporation.

Description: Florida Power Corporation submits tariff filing per 35.13(a)(2)(iii: Annual update of cost factors for Florida Power Corp. Interchange Agreements to be effective 5/1/2012.

Filed Date: 4/30/12.

Accession Number: 20120430-5299.

Comments Due: 5 p.m. ET 5/21/12.

Docket Numbers: ER12-1647-000.

Applicants: Florida Power Corporation.

Description: Florida Power Corp Additional Transmission Projects for 50% CWIP Recovery.

Filed Date: 4/30/12.

Accession Number: 20120430-5305.

Comments Due: 5 p.m. ET 5/21/12.

Docket Numbers: ER12-1648-000.

Applicants: ITC Midwest LLC.

Description: ITC Midwest LLC submits tariff filing per 35.13(a)(2)(iii: Filing of Attachment Agreements to be effective 5/1/2012.

Filed Date: 4/30/12.

Accession Number: 20120430-5313.

Comments Due: 5 p.m. ET 5/21/12.

Docket Numbers: ER12-1649-000.

Applicants: Entergy Arkansas, Inc.

Description: Entergy Arkansas, Inc. submits tariff filing per 35.13(a)(2)(iii: Cleco NITSA 6th Rev. to be effective 5/1/2012.

Filed Date: 4/30/12.

Accession Number: 20120430-5315.

Comments Due: 5 p.m. ET 5/21/12.

Docket Numbers: ER12-1650-000.

Applicants: Maine Public Service Company.

Description: Maine Public Service Company submits tariff filing per 35.13(a)(1): Formula Rate Change Filing to be effective 7/1/2012.

Filed Date: 4/30/12.

Accession Number: 20120430-5322.

Comments Due: 5 p.m. ET 5/21/12.

Docket Numbers: ER12-1651-000.

Applicants: ISO New England Inc., New England Power Pool Participants Committee.

Description: ISO New England Inc. submits tariff filing per 35.13(a)(2)(iii: ISO-NE Central Counterparty to be effective 1/1/2013.

Filed Date: 4/30/12.

Accession Number: 20120430-5415.

Comments Due: 5 p.m. ET 5/14/12.

Docket Numbers: ER12-1652-000.

Applicants: Stephentown Spindle, LLC.

Description: Stephentown Spindle, LLC submits tariff filing per 35: Category Seller Status Revision to be effective 5/1/2012.

Filed Date: 4/30/12.

Accession Number: 20120430-5417.

Comments Due: 5 p.m. ET 5/21/12.

Docket Numbers: ER12-1653-000.

Applicants: New York Independent System Operator, Inc.

Description: New York Independent System Operator, Inc. submits tariff filing per 35: Compliance Filing: Order No. 755, Frequency Regulation to be effective 10/27/2012.

Filed Date: 4/30/12.

Accession Number: 20120430-5428.

Comments Due: 5 p.m. ET 5/21/12.

Docket Numbers: ER12-1654-000.

Applicants: Avista Corporation.

Description: Avista Corporation submits tariff filing per 35.12: Avista KEC Interconnection Agreement SA T0205-1 to be effective 5/1/2012.

Filed Date: 4/30/12.

Accession Number: 20120430-5432.

Comments Due: 5 p.m. ET 5/21/12.

Docket Numbers: ER12-1655-000.

Applicants: Lea Power Partners, LLC.

Description: Lea Power Partners, LLC submits tariff filing per 35.13(a)(2)(iii: April 2012 Change in Status Filing to be effective 3/29/2012.

Filed Date: 4/30/12.

Accession Number: 20120430-5434.

Comments Due: 5 p.m. ET 5/21/12.

Docket Numbers: ER12-1656-000.

Applicants: Waterside Power, LLC.

Description: Waterside Power, LLC submits tariff filing per 35.13(a)(2)(iii: April 2012 Change in Status Filing to be effective 3/29/2012.

Filed Date: 4/30/12.

Accession Number: 20120430-5436.

Comments Due: 5 p.m. ET 5/21/12.

Docket Numbers: ER12-1657-000.

Applicants: Pacific Gas and Electric Company.

Description: Pacific Gas and Electric Company submits tariff filing per 35.13(a)(2)(iii: Western's Work Performance Agreement (Cottonwood), Rate Schedule FERC No. 228 to be effective 5/1/2012.

Filed Date: 4/30/12.

Accession Number: 20120430-5441.

Comments Due: 5 p.m. ET 5/21/12.

Docket Numbers: ER12-1658-000.

Applicants: Midwest Independent Transmission System Operator, Inc.

Description: Midwest Independent Transmission System Operator, Inc. submits tariff filing per 35.13(a)(2)(iii: 4-30-12 AIC/PPI to be effective 4/11/2012.

Filed Date: 4/30/12.

Accession Number: 20120430-5442.

Comments Due: 5 p.m. ET 5/21/12.

Docket Numbers: ER12-1659-000.

Applicants: New England Power Pool Participants Committee.

Description: New England Power Pool Participants Committee submits tariff filing per 35.13(a)(2)(iii: May 2012 Membership Filing to be effective 5/1/2012.

Filed Date: 4/30/12.

Accession Number: 20120430-5443.

Comments Due: 5 p.m. ET 5/21/12.

Docket Numbers: ER12-1660-000.

Applicants: Tuscola Bay Wind, LLC.

Description: Tuscola Bay Wind, LLC submits tariff filing per 35.12: Tuscola Bay Wind, LLC MBR Application to be effective 6/29/2012.

Filed Date: 4/30/12.

Accession Number: 20120430-5445.

Comments Due: 5 p.m. ET 5/21/12.

Docket Numbers: ER12-1661-000.

Applicants: PJM Interconnection, LLC.

Description: PJM Interconnection, LLC submits tariff filing per 35.13(a)(2)(iii: Revisions to PJM OATT Sch 12 & Sch 12 Appendices per Order in EL02-23 & ER08-858 to be effective 5/1/2012.

Filed Date: 4/30/12.

Accession Number: 20120430-5447.

Comments Due: 5 p.m. ET 5/21/12.

Docket Numbers: ER12-1662-000.

Applicants: Black Hills/Colorado Electric Utility Co.

Description: Black Hills/Colorado Electric Utility Company, LP submits tariff filing per 35.13(a)(2)(iii: OATT Revised Sections to be effective 5/1/2012.

Filed Date: 4/30/12.

Accession Number: 20120430-5448.

Comments Due: 5 p.m. ET 5/21/12.

Docket Numbers: ER12-1663-000.

Applicants: Midwest Independent Transmission System Operator, Inc.

Description: Midwest Independent Transmission System Operator, Inc. submits tariff filing per 35: 04-30-12 Att L Compliance (Order 741) to be effective 1/1/2013.

Filed Date: 4/30/12.

Accession Number: 20120430-5450.

Comments Due: 5 p.m. ET 5/14/12.

Docket Numbers: ER12-1664-000.

Applicants: Midwest Independent Transmission System Operator, Inc.

Description: Midwest Independent Transmission System Operator, Inc. submits tariff filing per 35: 04-30-12 755 Compliance to be effective 10/27/2012.

Filed Date: 4/30/12.

Accession Number: 20120430-5459.

Comments Due: 5 p.m. ET 5/21/12.

Docket Numbers: ER12-1665-000.

Applicants: Southwest Power Pool, Inc.

Description: Southwest Power Pool, Inc. submits tariff filing per 35.13(a)(2)(iii: 2028R2 Sunflower Electric Power Corporation NITSA NOA to be effective 4/1/2012.

Filed Date: 4/30/12.

Accession Number: 20120430-5467.

Comments Due: 5 p.m. ET 5/21/12.

Take notice that the Commission received the following electric securities filings:

Docket Numbers: ES12-38-000.

Applicants: Delmarva Power & Light Company, Potomac Electric Power Company.

Description: Application for Authorization to Issue short-term debt of Delmarva Power & Light Company, et al.

Filed Date: 4/30/12.

Accession Number: 20120430-5303.

Comments Due: 5 p.m. ET 5/21/12.

Take notice that the Commission received the following land acquisition reports:

Docket Numbers: LA12-1-000.

Applicants: Astoria Generating Company, L.P.

Description: Report/Quarterly Land Acquisition Report of Astoria Generating Company, L.P.

Filed Date: 4/30/12.

Accession Number: 20120430-5144.

Comments Due: 5 p.m. ET 5/21/12.

Docket Numbers: LA12-1-000.

Applicants: El Paso Electric Company.

Description: Land Acquisition Report of El Paso Electric Company.

Filed Date: 4/30/12.

Accession Number: 20120430-5239.

Comments Due: 5 p.m. ET 5/21/12.

Docket Numbers: LA12-1-000.

Applicants: Cedar Creek II, LLC, Copper Mountain Solar 1, LLC, El Dorado Energy, LLC, Fowler Ridge II Wind Farm LLC, Mesquite Power, LLC, Mesquite Solar 1, LLC, San Diego Gas & Electric Company, Sempra Energy Trading LLC, Sempra Generation, and Termoelectrica U.S., LLC.

Description: Sempra Generation et al. Land Acquisition Report.

Filed Date: 4/30/12.

Accession Number: 20120430-5245.

Comments Due: 5 p.m. ET 5/21/12.

Docket Numbers: LA12-1-000.

Applicants: Bluegrass Generation Company, LLC, Blythe Energy, LLC, Calhoun Power Company, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, Wallingford Energy LLC, and Wyoming Colorado Intertie, LLC.

Description: Report/Quarterly Land Acquisition Report of Bluegrass Generation Company, LLC, Blythe Energy, LLC, Calhoun Power Company, LLC, Cherokee County Cogeneration Partners, LLC, DeSoto County Generating Company, LLC, et al.

Filed Date: 4/30/12.

Accession Number: 20120430-5251.

Comments Due: 5 p.m. ET 5/21/12.

Docket Numbers: LA12-1-000.

Applicants: AES Corporation, AEE2, LLC, AES Alamitos, LLC, AES Armenia Mountain Wind, LLC, AES Creative Resources, L.P., AES Eastern Energy, L.P., AES Energy Storage, LLC, AES ES Westover, LLC, AES Huntington Beach, LLC, AES Ironwood, LLC, AES Laurel Mountain, LLC, AES Red Oak, LLC, AES Redondo Beach, LLC, Condon Wind Power, LLC, Indianapolis Power & Light Company, Mountain View Power Partners, LLC, Mountain View Power Partners IV, LLC, The Dayton Power and Light Company, DPL Energy, LLC.

Description: Report of Site Acquisition of The AES Corporation.

Filed Date: 4/30/12.

Accession Number: 20120430-5353.

Comments Due: 5 p.m. ET 5/21/12.

Docket Numbers: LA12-1-000.

Applicants: Elizabethtown Energy, LLC, Lumberton Energy, LLC, Hatchet Ridge Wind, LLC, Lyonsdale Biomass, LLC, ReEnergy Sterling CT Limited Partnership, Bayonne Plant Holding, LLC, Camden Plant Holding, LLC, Dartmouth Power Associates Limited Partnership, Elmwood Park Power, LLC, Newark Bay Cogeneration Partnership, L.P., Pedricktown Cogeneration Company LP, York Generation Company LLC, Boralex Ashland LP, Boralex Fort Fairfield LP, Boralex Livermore Falls LP, Boralex Stratton Energy LP, Black River Generation, LLC, Spring ValleyWind LLC.

Description: Quarterly Land Aquisition Report of Elizabethtown Energy, LLC, et al.

Filed Date: 4/30/12.

Accession Number: 20120430-5382.

Comments Due: 5 p.m. ET 5/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2012.
Nathaniel J. Davis, Sr.,
Deputy Secretary.

[FR Doc. 2012-10970 Filed 5-7-12; 8:45 am]

BILLING CODE 6717-01-P